DEPARTMENT OF THE INTERIOR

Fish and Wildlife Service

Notice of Availability of the Karner Blue Butterfly (Lycaeides melissa samuelis) Technical/Agency Draft Recovery Plan for Review and Comment

AGENCY: Fish and Wildlife Service, Interior.

ACTION: Notice of document availability.

SUMMARY: The U.S. Fish and Wildlife Service (Service) announces availability for public review of a technical/agency draft recovery plan for the endangered Karner blue butterfly (Lycaeides melissa samuelis). The Karner blue butterfly is known to presently occur in seven states: Minnesota, Wisconsin, Michigan, Indiana, New Hampshire, New York, and Ohio, where it was recently reintroduced. The Service solicits review and comments from the public on this draft plan.

DATES: Comments on the draft recovery plan must be received on or before April 4, 2002 to receive consideration by the Service.

ADDRESSES: Persons wishing to review the draft recovery plan may obtain a copy by contacting the Field Supervisor of the Green Bay Ecological Services Field Office, U.S. Fish and Wildlife Service, 1015 Challenger Court, Green Bay, Wisconsin 54311 or by accessing the website: http//midwest.fws.gov/endangered. Written comments and materials regarding the plan should be addressed to the Field Supervisor at the above address. Comments and materials received will be available, by appointment, for public inspection during normal business hours, at the above address.

FOR FURTHER INFORMATION CONTACT: Ms. Catherine Carnes, (at the above address) Telephone: (920) 465-7415. TTY users may contact Ms. Carnes through the Federal Relay Service at (800) 877-8339.

SUPPLEMENTARY INFORMATION:

Background

Restoring an endangered or threatened animal or plant to the point where it is again a secure, self-sustaining member of its ecosystem is a primary goal of the Service's endangered species program. To help guide the recovery effort, the Service is working to prepare recovery plans for most of the listed species native to the United States. Recovery plans describe actions considered necessary for conservation of the species, establish criteria for the recovery levels for reclassification and delisting, and an estimate of time and cost for implementing the recovery measures needed.

The Endangered Species Act of 1973, as amended (16 U.S.C. 1531 et. seq.), requires the development of recovery plans for listed species unless such a plan would not promote the conservation of a particular species. Section 4(f) of the Act, as amended in 1988, requires that public notice and opportunity for public review and comment to be provided during recovery plan development. The Service will consider all information presented during a public comment period prior to approval of each new or revised recovery plan. The Service and other Federal agencies will also take these comments into account in the course of implementing approved recovery plans.

The document submitted for review is the Karner Blue Butterfly (Lycaeides melissa samuelis) Technical/Agency Draft Recovery Plan. Historically, the butterfly occurred in 12 states and the Province of Ontario. Its current range has been reduced to seven states: Minnesota, Wisconsin, Michigan, Indiana, New Hampshire, New York, and Ohio, where it was recently reintroduced. Three of these states (Ohio, New Hampshire, and Minnesota) have only one extant Karner blue butterfly population. Wisconsin and Michigan support the majority of populations throughout the range.

The Karner blue butterfly was listed as endangered on January 21, 1992. The butterfly depends on savanna and barrens habitats that support wild lupine (Lupinus perennis), the only plant Karner blue larvae (or caterpillars) are known to feed on. Threats to the butterfly include continued loss and alteration of habitat due to commercial, residential, and agricultural development, fragmentation, and degradation through succession. Today, the butterfly inhabits remnant savanna and barrens habitats, as well as other more disturbed habitat sites including younger forest stands, military bases, utility and roadway rights-of-way, and airports.

The primary objective of the draft recovery plan is to restore and protect an adequate number of Karner blue butterfly populations throughout its range to ensure long-term viability of the species in the wild. The plan proposes a total of 13 recovery units throughout a six state recovery area (Minnesota, Wisconsin, Michigan, Indiana, New York, and New Hampshire). In order to reclassify the butterfly from endangered to threatened status, the plan proposes the establishment of at least 28 metapopulations within the recovery units. In order to remove the butterfly from the Federal list of “Threatened and Endangered Species,” the plan recommends a minimum of 29 metapopulations be established throughout the recovery units.

The draft recovery plan presents a blueprint for action by Federal and state agencies, as well as other organizations, and private landowners interested in helping in the recovery of this endangered species. Recovery actions include restoration and protection of Karner blue butterfly habitat, population monitoring, continued refinement of habitat management guidelines, research to guide habitat management and captive propagation efforts, and education and outreach efforts. Working with Federal, state and private landowners on a voluntary basis will be necessary to reduce the threats, and conserve, protect, and manage key habitat areas for the Karner blue butterfly.

Public Comments Solicited

The Service solicits written comments on the recovery plan described. All comments received by the date specified will be considered prior to approval of the plan. Comments should be sent to the Field Supervisor, Ecological Services Field Office, at the above address.

Authority: The authority for this action is section 4(f) of the Endangered Species Act, 16 U.S.C. 1533(f).

Dated: November 9, 2001
T.J. Miller,
Acting Assistant Regional Director, Ecological Services.

[FR Doc. 01-30079 Filed 12-4-01; 8:45 am]

BILLING CODE 4310-55-P